DEPARTMENT OF HEALTH AND HUMAN SERVICES

Centers for Disease Control and Prevention

Disease, Disability, and Injury Prevention and Control Special Emphasis Panel (SEP): Initial Review

In accordance with Section 10(a)(2) of the Federal Advisory Committee Act (Pub. L. 92-463), the Centers for Disease Control and Prevention (CDC) announces a meeting for the initial review of applications in response to Funding Opportunity Announcement (FOA), RFA-CE-16-003, Research on Prescription Opioid Use, Opioid Prescribing, and Associated Heroin Risk.

Time and Date: 8:30 a.m.-5:00 p.m., EDT, April 27-28, 2016 (Closed).

Place: Atlanta Marriott Century Center, 2000 Century Blvd. NE., Atlanta, Georgia 30345.

Status: The meeting will be closed to the public in accordance with provisions set forth in Section 552b(c)(4) and (6), Title 5 U.S.C., and the Determination of the Director, Management Analysis and Services Office, CDC, pursuant to Public Law 92-463.

Matters for Discussion: The meeting will include the initial review, discussion, and evaluation of applications received in response to “Research on Prescription Opioid Use, Opioid Prescribing, and Associated Heroin Risk”, FOA RFA-CE-16-003.

Contact Person for More Information: M. Chris Langub, Ph.D., Scientific Review Officer, CDC, 4770 Buford Highway NE., Mailstop F-80, Atlanta, Georgia 30341, Telephone: (770) 488-3585, EEO6@cdc.gov.

The Director, Management Analysis and Services Office, has been delegated the authority to sign Federal Register notices pertaining to announcements of meetings and other committee management activities, for both the Centers for Disease Control and Prevention and the Agency for Toxic Substances and Disease Registry.

Catherine Ramadei,
Acting Director, Management Analysis and Services Office, Centers for Disease Control and Prevention.

[FR Doc. 2016-07626 Filed 4-1-16; 8:45 am]

BILLING CODE 4163-18-P